DEPARTMENT OF THE INTERIOR

Bureau of Land Management

[LLCOF020000 L54400000.EU0000. LVCLC14C0290; 14X]

Notice of Realty Action: Direct Sale of Public Land in Gilpin County, Colorado

AGENCY: Bureau of Land Management, Interior.

ACTION: Notice of realty action.

SUMMARY: The Bureau of Land Management (BLM) is proposing a non-competitive (direct) sale of four parcels of public land totaling 6.72 acres in Gilpin County, Colorado, to the City of Black Hawk (Black Hawk) under Section 203 of the Federal Land Policy and Management Act of 1976, (FLPMA), and BLM land sale regulations, 43 CFR 2711. The combined appraised fair market value of the four parcels is $47,000. This property valuation is approved by the Office of Valuation Services and is in conformance with the Uniform Standards for Federal Land Acquisitions (Yellowbook) and the Uniform Standards of Professional Appraisal Practice (USPAP).

DATES: Written comments must be received no later than July 9, 2018.

ADDRESSES: Mail written comments to the BLM Royal Gorge Field Office, Field Manager, 3028 E. Main Street, Cañon City, CO 81212. Written comments may also be submitted electronically at https://go.usa.gov/xnWrN, or by fax to 719-269-8599.

FOR FURTHER INFORMATION CONTACT: Greg Valladares, Realty Specialist, BLM Royal Gorge Field Office, at 719-269-8513. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Under FLPMA, Section 203(a)(3) and 43 CFR 2710.0-3(a)(2), the disposal of these lands will serve important public objectives, which cannot be achieved prudently or feasibly on lands other than these public lands. In this case, the objectives may include, but are not limited to, expansion of communities and economic development. The BLM authorized officer finds that the public interest would be best served by disposing of these public lands that are difficult and uneconomical to manage as public lands, and are not suitable for management by another Federal department or agency.

The parcels are isolated, not contiguous with each other and not contiguous with other federally-managed lands. Continued Federal ownership of the parcels does not provide public benefit. Black Hawk owns the adjacent lands surrounding the parcels and intends to use the parcels for potential water storage infrastructure and inundation by a reservoir proposal being analyzed by the United States Army Corp of Engineers. Black Hawk will also manage the parcels for public recreation and open space.

The four parcels, which are located on Maryland Mountain near Chase Gulch Road in Gilpin County, Colorado, are legally described as:

Sixth Principal Meridian, Colorado

T. 3 S., R. 73 W.,

Sec. 12, lots 20, 21, 23, and 24.

The areas described aggregate 6.72 acres.

This sale is in conformance with the BLM Northeast Resource Management Plan, approved September 16, 1986. The offered lands consist of small, irregularly shaped, and isolated remnants resulting from a pattern of intermingled mining claim patents. The BLM prepared a parcel-specific Environmental Assessment (EA) document numbered DOI-BLM-CO-F020-2017-0022-EA in connection with this Notice of Realty Action. A copy of the EA is available online at https://go.usa.gov/xnWrN.

The proposed direct sale will be conducted in compliance with regulations contained in 43 CFR 2711.3-3(a)(1), which allow the BLM to conduct direct sales of public lands when a competitive sale is not appropriate and the public interest is best served by a direct sale. The direct sale is to a local government to meet its need for future water storage, public recreation and open space.

The above lands were segregated on May 6, 2014, from all forms of appropriation under the public land laws, including the mining laws, except for the sale provisions of the FLPMA (79FR25887). The BLM published a Second Notice of Segregation on May 3, 2016 (81FR26579), to extend the segregation to May 5, 2018. The segregative effect will terminate upon issuance of a patent, publication in the Federal Register of a termination of the segregation, or expiration of the segregation, whichever comes first. Upon publication of this notice and until completion of the sale, the BLM will not accept land use applications affecting the identified public lands, except applications for the amendment of previously-filed right-of-way applications or existing authorizations to increase the term of the grants in accordance with 43 CFR 2807.15 and 2886.15. Pursuant to 43 CFR 2711.1-2, the lands will not be sold until after July 23, 2018, and notice will be published once a week for three weeks in the Mountain Ear and the Weekly Register-Call.

The patent, if issued, will be subject to the following terms, conditions, and reservations:

1. A reservation of a right-of-way thereon for ditches or canals constructed by the authority of the United States, Act of August 30, 1890 (43 U.S.C 945);

2. A reservation of all mineral deposits in the land so patented, and to it, or persons authorized by it, the right to prospect for, mine, and remove such deposits from the same under applicable law and such regulations as the Secretary of the Interior may prescribe are reserved to the United States, together with all necessary access and exit rights;

3. An appropriate indemnification clause protecting the United States from claims arising out of the lessee's/patentee's use, occupancy, or occupation on the leased/patented lands;

4. Valid existing rights and encumbrances of record, including, but not limited to, rights-of-way for roads and public utilities.

Information concerning the sale, appraisal, reservations, procedures and conditions, and other environmental documents that may appear in the BLM public files for the four parcels are available for review during normal business hours, Monday through Friday, at the BLM Royal Gorge Field Office, except during Federal holidays.

Submit comments on this notice to the address in the ADDRESSES section above. Before including your address, phone number, email address, or other personal identifying information in your comment, you should be aware that your entire comment—including your personal identifying information—may be made publicly available at any time. While you may ask us in your comment to withhold your personal identifying information from public review, we cannot guarantee that we will be able to do so. Any adverse comments regarding this sale will be reviewed by the BLM Colorado State Director or other authorized official of the Department of the Interior, who may sustain, vacate, or modify this realty action in whole or in part. In the absence of timely filed objections, this realty action will become the final determination of the Department of the Interior.

(Authority: 43 CFR 2711)

Gregory P. Shoop,
Acting BLM Colorado State Director.

[FR Doc. 2018-10960 Filed 5-22-18; 8:45 am]

BILLING CODE 4310-JB-P